DEPARTMENT OF AGRICULTURE

Farm Service Agency

Request for an Extension of a Currently Approved Information Collection; County Committee Elections

AGENCY: Farm Service Agency, USDA.

ACTION: Notice; request for comments.

SUMMARY: In accordance with the Paperwork Reduction Act of 1995, the Farm Service Agency (FSA) is seeking comments from all interested individuals and entities on an extension of a currently approved information collection associated with the FSA County Committee Elections. The collection of information from FSA farmers and ranchers is used to receive nominations from eligible voters for the County Committee.

DATES: We will consider comments that we receive by May 13, 2011.

Additional Information: We invite you to submit comments on this Notice. In your comment, include volume, date and page number of this issue of the Federal Register. You may submit comments by any of the following methods:

Mail: Kenneth Nagel, Field Operations Manager for the Deputy Administrator for Field Operations, Farm Service Agency, USDA, STOP 0542, 1400 Independence Avenue, Washington, DC 20250.

E-mail: Send comments to: Kenneth.nagel@wdc.usda.gov.

Fax: (202) 720-6974.

Comments also should be sent to the Desk Officer for Agriculture, Office of Information and Regulatory Affairs, Office of Management and Budget, Washington, DC 20503.

FOR FURTHER INFORMATION CONTACT: Kenneth Nagel, Field Operations Manager, telephone (202) 720-7890.

SUPPLEMENTARY INFORMATION: Title: County Committee Election.

OMB Control Number: 0560-0229.

Expiration Date of Approval: September 30, 2011.

Type of Request: Extension.

Abstract: This information collection is necessary to effectively allow farmers and ranchers to nominate potential candidates for the county committee election. FSA also requires reporting the participation rate of disadvantaged farmers and ranchers and the election result to USDA Secretary and the Congress, as specified in Soil Conservation and Domestic Allotment Act. Specifically, FSA county offices use the information annually or if needed through-out the year for special elections to create ballots for county committee elections.

FSA county offices compile information for ballots and reports from FSA-669A, Nomination Form for County FSA Committee Election, that an individual completes to nominate themselves or nominate any other person who is interested to serve on a FSA county committee, if eligible. The individuals also voluntarily specify their race, ethnicity, and gender on FSA-669A.

Estimate of Respondent Burden: Public reporting burden for this collection of information is estimated to average 10 minutes per response. The average travel time, which is included in the total burden, is estimated to be 1 hour per respondent.

Respondents: Any individual with farming interest in the Local Administrative Area (LAA) (eligible voters).

Estimated Number of Respondents: 10,000.

Estimated Number of Responses per Respondent: 1.

Estimated Total Annual of Responses: 10,000.

Estimated Total Annual Burden Hours: 6,700.

We are requesting comments on all aspects of this information collection to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All responses received in response to this notice, including names and addresses, when provided, will be a matter of public records. Comments will be summarized and included in the request for Office of Management and Budget approval of the information collection.

Signed in Washington, DC on March 8, 2011.
Carolyn B. Cooksie,
Acting Administrator, Farm Service Agency.

[FR Doc. 2011-5770 Filed 3-11-11; 8:45 am]

BILLING CODE 3410-05-P